DEPARTMENT OF DEFENSE

Office of the Assistant Secretary of Defense for Health Affairs; Meeting of the Board of Regents of the Uniformed Services University of the Health Sciences

AGENCY: Uniformed Services University of the Health Sciences.

ACTION: Notice.

(1) Approval of Minutes—February 8, 2005.

(2) Faculty Matters.

(3) Departmental Reports.

(4) Financial Report.

(5) Report—Interim President, USUHS.

(6) Report—Dean, School of Medicine.

(7) Report—Dean, Graduate School of Nursing.

(8) Approval of Degrees—School of Medicine; Graduate

School of Nursing.

(9) Comments—Chairman, Board of Regents.

(10) New Business.

DATES: May 20, 2005, 8 a.m. to 4 p.m.

ADDRESSES: Uniformed Services University of the Health Sciences, Board of Regents Conference Room (D3001), 4301 Jones Bridge Road, Bethesda, MD 20814-4799.

FOR FURTHER INFORMATION CONTACT: Barry W. Wolcott, M.D., Executive Secretary, Board of Regents, (301) 295-3681.

Dated: March 31, 2005.
Jeannette Owings-Ballard,
OSD Federal Register Liaison Officer, Department of Defense.

[FR Doc. 05-6731 Filed 4-5-05; 8:45 am]

BILLING CODE 5001-06-P